DEPARTMENT OF THE INTERIOR

Bureau of Indian Affairs

[156A2100DD/AAKC001030/A0A501010.999900 253G]

Draft Environmental Impact Statement for Management of Osage Nation Oil and Gas Resources, Osage County, Oklahoma

AGENCY: Bureau of Indian Affairs, Interior.

ACTION: Notice of availability.

SUMMARY: In accordance with the National Environmental Policy Act, the Bureau of Indian Affairs (BIA), as the lead Federal agency, with the Osage Nation and the Environmental Protection Agency (EPA) as cooperating agencies, has prepared a draft environmental impact statement (DEIS). This document is for the management of oil and gas resources owned by the United States in trust for the Osage in Osage County, Oklahoma. This notice announces that the DEIS is now available for public review and that the BIA will hold a public meeting to solicit comments on it.

DATES: A public meeting has been scheduled from 3 p.m. to 6 p.m. on November 30, 2015, at the Wah Zha Zhi Cultural Center, 1449 Main St., Pawhuska, Oklahoma. The date and location of the public meeting, including any changes, will be announced at least 15 days in advance through notices in the following local newspapers: Fairfax Chief, Hominy News Progress, Pawhuska Journal Capital, Shidler Review, Skiatook, and Tulsa World and will be posted on the following Internet Web site: http://www.bia.gov/WhoWeAre/RegionalOffices/EasternOklahoma/WeAre/Osage/OSAGEOilGasEIS. In order to be fully considered, written comments on the DEIS must arrive no later than 45 days after the EPA publishes its Notice of Availability in the Federal Register.

ADDRESSES: You may mail, email, hand deliver, or fax written comments to Ms. Jeannine Hale, BIA Eastern Oklahoma Regional Office, P.O. Box 8002, Muskogee, OK 74402-8002; fax (918) 781-4667; email: osagecountyoilgaseis@bia.gov. The DEIS will be available for review at 813 Grandview, Pawhuska, OK 74820. It is also available online at http://www.bia.gov/WhoWeAre/RegionalOffices/EasternOklahoma/WeAre/Osage/OSAGEOilGasEIS.

FOR FURTHER INFORMATION CONTACT: Ms. Jeannine Hale, Division of Environmental and Cultural Resources, BIA Eastern Oklahoma Regional Office, P.O. Box 8002, Muskogee, OK 74402-8002, (918) 781-4660.

SUPPLEMENTARY INFORMATION: The proposed action for this EIS is to update and provide additional analysis on the impacts of the BIA lease and permit approval program to facilitate the development of oil and gas in Osage County in an efficient manner that prevents pollution.

Under the Osage Allotment Act of 1906, the United States reserved all rights to the mineral estate in Osage County for the benefit of the Osage. The mineral estate is held in trust, and the BIA approves oil and gas leases, applications for permits to drill, and other site-specific permit applications in Osage County under the authority of the Osage Allotment Act, as amended and 25 Code of Federal Regulations Part 226.

The BIA, under delegation of the Secretary of the Interior, is responsible for administering the development of oil and gas resources in Osage County for the benefit of the Osage. The Federal actions, including approvals of leases and issuance of permits, are needed for the BIA to fulfill a portion of its trust responsibility to the Osage and to facilitate the development of the mineral estate. The EIS will replace the 1979 Environmental Assessment for the Oil and Gas Leasing Program of the Osage Indian Tribe.

The DEIS analyzes three alternatives for managing oil and gas development in Osage County, one of which is the No Action Alternative. The alternatives represent the range of reasonable actions that could be taken to satisfy the purpose of and need for the BIA's action. The objective of the alternatives is, to the extent possible, to minimize potential adverse impacts on landowners, wildlife, and natural and cultural resources from noise, traffic, excavations, dust, and other disturbances associated with construction and operations under oil and gas leases. The alternatives for the Osage County Oil and Gas EIS were developed through public scoping, an alternatives development workshop with cooperating agencies, and a draft alternatives concepts public listening session.

Under the alternatives, the BIA would apply varying levels of resource conservation measures to oil and gas activities in Osage County, ranging from (1) the existing situation, to (2) an expanded list of measures to provide certainty to lessees and to streamline the permitting process, to (3) a further expanded list of measures to add protection for specific areas where sensitive resources are located. The BIA is considering applying resource conservation measures to three types of activities under oil and gas leases: (1) Non-permitted lease activities, (2) activities within the scope of the 2015 Workover Programmatic Environmental Assessment, and (3) Applications for Permit to Drill and other permitted activities.

The BIA has provided extensive opportunities for meaningful and substantive input and comments during the preparation of this DEIS. Those invited to participate in the process were the public, various groups, other Federal agencies, Tribal members, and State and local governments.

Public involvement for the Osage County Oil and Gas EIS has consisted of the following:

• Public scoping comment period from July 26, 2013, to January 31, 2014;

• Public outreach via bulletins, newspaper announcements, public meetings, and a project Web site;

• A public listening session held in Pawhuska, Oklahoma, on March 9, 2015;

• Collaboration with Federal, State, local, and Tribal governments and cooperating agencies and entities; and

• Public review of and comment on this DEIS.

Directions for Submitting Comments: Please include your name, return address, and the caption “DEIS Comments, Osage County Oil and Gas EIS” on the first page of your written comments.

Public Comment Availability: Written comments, including names and addresses of respondents, will be available for public review at the BIA, 813 Grandview, Pawhuska, Oklahoma, during regular business hours, 8 a.m. to 4:30 p.m., Monday through Friday, except holidays. Before including your address, telephone number, email address, or other personal identifying information in your comment, you should be aware that your entire comment—including your personal identifying information— may be made publicly available at any time. While you can ask us in your comment to withhold your personal identifying information from public review, we cannot guarantee that we will be able to do so.

Authority: This notice is published in accordance with Section 1503.1 of the Council on Environmental Quality regulations (40 CFR part 1500 et seq.) and the Department of the Interior Regulations (43 CFR part 46) implementing the procedural requirements of the National Environmental Policy Act (42 U.S.C. 4321 et seq.), and in accordance with the authority delegated to the Assistant Secretary—Indian Affairs in Part 209 of the Department Manual.

Dated: November 3, 2015.
Michael S. Black,
Director, Bureau of Indian Affairs.

[FR Doc. 2015-28507 Filed 11-6-15; 8:45 am]

BILLING CODE 4337-15-P